DEPARTMENT OF COMMERCE

National Oceanic and Atmospheric Administration

RIN 0648-XE743

Marine Mammals; File No. 20443

AGENCY: National Marine Fisheries Service (NMFS), National Oceanic and Atmospheric Administration (NOAA), Commerce.

ACTION: Notice; receipt of application.

SUMMARY: Notice is hereby given that the Alaska Department of Fish and Game, PO Box 115526, Juneau, AK 99811-5526 [Responsible Party: Robert Small, Ph.D.], has applied in due form for a permit to conduct research on marine mammals.

DATES: Written, telefaxed, or email comments must be received on or before December 21, 2016.

ADDRESSES: The application and related documents are available for review by selecting “Records Open for Public Comment” from the “Features” box on the Applications and Permits for Protected Species (APPS) home page, https://apps.nmfs.noaa.gov, and then selecting File No. 20443 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Rosa González or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant requests a five-year permit to study harbor seals (Phoca vitulina) throughout their range in Alaska, including Southeast Alaska, Gulf of Alaska and Bering Sea. The overall objective of the research is to provide a greater understanding of the proximate and ultimate factors that regulate their abundance, which is required to develop effective management and conservation strategies. Research activities include aerial, vessel and ground surveys, radio tracking, photo-identification, photograph/video, behavioral observations and monitoring, and capture of up to 350 animals by entanglement in a net in the water or by hoop net or dip net on land. Captured animals may be chemical restraint; physical restraint by hand, net, cage or stretcher. Researchers may collect biological samples (e.g., scat, blood, milk from lactating females, blubber, muscle, skin, hair, mucus membrane swabs, stomach content subsample, tooth and vibrissae); standard morphometrics and weight; measurements of blubber via ultrasound; and inject PIT tags and attach flipper tags. A subset of the captured animals may also be outfitted with external transmitters and data-loggers. The applicant also requests export (worldwide) and import of samples for analysis, incidental disturbance and unintentional mortality of harbor seals and porpoises (Phocoena phocoena), and intentional mortality (euthanasia) of harbor seals.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 15, 2016.
Julia Harrison,
Chief, Permits and Conservation Division, Office of Protected Resources, National Marine Fisheries Service.

[FR Doc. 2016-27861 Filed 11-18-16; 8:45 am]

BILLING CODE 3510-22-P